DEPARTMENT OF TRANSPORTATION

Federal Aviation Administration

Notice of Intent of Waiver With Respect to Land; Akron-Canton Airport, North Canton, OH

AGENCY: Federal Aviation Administration (FAA), DOT.

ACTION: Notice.

SUMMARY: The FAA is considering a proposal to change 13.3 acres of airport land from aeronautical use to non-aeronautical use and to authorize the lease of airport property located at Akron-Canton Airport, North Canton, OH. The aforementioned land is not needed for aeronautical use. The parcel is located in the Northwest quadrant of the airport, immediately west of the Runway 19 approach surface with a property address of 2767 Greensburg Road, North Canton, OH. The parcel identification number is #2811553. The property is currently designated as aeronautical use for compatible land use in support of the airfield approach. The proposed non-aeronautical use is for commercial/general industrial development.

DATES: Comments must be received on or before February 7, 2018.

ADDRESSES: Documents are available for review by appointment at the FAA Detroit Airports District Office, Evonne M. McBurrows, 11677 South Wayne Road, Suite 107, Romulus, MI 48174. Telephone: (734) 229-2900/Fax: (734) 229-2950 and Akron-Canton Airport, 5400 Lauby Road NW #9, North Canton, OH. Telephone: (330) 499-4059.

Written comments on the Sponsor's request must be delivered or mailed to: Evonne M. McBurrows, Program Manager, Federal Aviation Administration, Detroit Airports District Office, 11677 South Wayne Road, Suite 107, Romulus, MI 48174, Telephone Number: (734) 229-2900/FAX Number: (734) 229-2950.

FOR FURTHER INFORMATION CONTACT: Evonne M. McBurrows, Program Manager, Federal Aviation Administration, Detroit Airports District Office, 11677 South Wayne Road, Suite 107, Romulus, MI 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is currently designated as aeronautical use for compatible land use. This parcel of land (13.3 acres) was acquired with Passenger Facility Charge Program funds under PFC project number 99-04-C-00-CAK. Akron-Canton Regional Airport Authority (AA) proposed non-aeronautical use is for commercial/general industrial development. AA will lease the land and receive fair market value.

The disposition of proceeds from the lease of the airport property will be in accordance with FAA's Policy and Procedures Concerning the Use of Airport Revenue, published in the Federal Register on February 16, 1999 (64 FR 7696).

This notice announces that the FAA is considering the release of the subject airport property at the Akron-Canton Airport, North Canton, OH from its obligations to be maintained for aeronautical purposes. Approval does not constitute a commitment by the FAA to financially assist in the change in use of the subject airport property nor a determination of eligibility for grant-in-aid funding from the FAA.

Legal Description For: Lease Parcel—13.3132 Acres Including Area in Public Right of Way and 12.8436 Acres Excluding Area in Public Right of Way.

Situated in the City of Green, County of Summit and State of Ohio:

Known as being part of the Northeast Quarter of Section 26 in Original Green Township, bounded and described as follows:

Beginning at an iron spike found at the intersection of the centerline of Greensburg Road (C.H. 133) width varies, and the west line of Northeast Quarter of Section 26;

Thence, N 82°38′36″ E, along the centerline of said Greensburg Road, a distance of 332.37 feet to the southeasterly comer of parcel number 28-11552 owned by A.K.C. Development Co., as recorded in document number 56194537 of Summit County records, said point being the Principal Point of Beginning;

Thence, N 01°01′04″ E, along the easterly line of said A.K.C. Property, a distance of 930.21 feet to a ⅝″ iron pin set; passing through a ⅝″ iron pin set at 33.36 feet;

Thence, S 89°34′34″ E, creating a new line, a distance of 650.60 feet to a ⅝″ iron pin set on the westerly line of property owned by Akron-Canton Regional Airport Authority, as recorded in document number 55559106 of Summit County Records;

Thence, S 00°24′54″ W, along the westerly line of said Akron-Canton Regional Airport Authority, a distance of 839.93 feet to a ⅝″ iron pin found at the point of intersection for the centerline of said Greensburg Road, passing through a ⅝″ iron pin set at 826.02 feet;

Thence, S 82°38′36″ W, along the centerline of said Greensburg Road, a distance of 666.51 feet to the Principal Place of Beginning and containing 13.3132 acres of land including area in the public right of way and 12.8436 acres of land excluding area in the public right of way, based on a survey conducted in January of 2017 by John R. Alban Professional Surveyor 7651.

Bearings are based upon an assumed meridian and are to be used for reference only.

All pins set are ⅝″ x 30″ rebar with yellow cap marked “J. Alban 7651.”

Issued in Romulus, Michigan, on November 30, 2017.
John L. Mayfield, Jr.,
Manager, Detroit Airports District Office, FAA, Great Lakes Region.

[FR Doc. 2018-00128 Filed 1-5-18; 8:45 am]

BILLING CODE 4910-13-P